DEPARTMENT OF VETERANS AFFAIRS

Joint Biomedical Laboratory Research and Development and Clinical Science Research and Development Services Scientific Merit Review Board; Notice of Meetings Amended

The Department of Veterans Affairs (VA) gives notice under the Federal Advisory Committee Act that the subcommittees of the Joint Biomedical Laboratory Research and Development and Clinical Science Research and Development Services Scientific Merit Review Board (JBL/CS SMRB) will meet from 8 a.m. to 5 p.m. on the dates indicated below (unless otherwise listed):

Subcommittee | Date | Location
Pulmonary Medicine | November 14, 2018 | 20 F Conference Center.
Surgery | November 14, 2018 | 20 F Conference Center.
Oncology-B | November 14, 2018 | Phoenix Park Hotel.
Infectious Diseases-B | November 15, 2018 | 20 F Conference Center.
Oncology-A/D | November 15, 2018 | 20 F Conference Center.
Hematology | November 16, 2018 | 20 F Conference Center.
Oncology-C | November 16, 2018 | 20 F Conference Center.
Cellular & Molecular Medicine | November 19, 2018 | * VA Central Office.
Nephrology | November 27, 2018 | 20 F Conference Center.
Oncology-E | November 27, 2018 | * VA Central Office.
Immunology & Dermatology-A | November 28, 2018 | 20 F Conference Center.
Infectious Diseases-A | November 28, 2018 | * VA Central Office.
Mental Health & Behavioral Sciences-B | November 28, 2018 | 20 F Conference Center.
Neurobiology-C | November 28, 2018 | 20 F Conference Center.
Endocrinology-A | November 29, 2018 | 20 F Conference Center.
Neurobiology-E | November 30, 2018 | 20 F Conference Center.
Cardiovascular Studies-A | December 3, 2018 | Phoenix Park Hotel.
Endocrinology-B | December 3, 2018 | 20 F Conference Center.
Neurobiology-B | December 3, 2018 | 20 F Conference Center.
Mental Health & Behavioral Sciences-A | December 4, 2018 | * VA Central Office.
Special Emphasis Panel on Million Veteran Prog Proj | December 4, 2018 | * VA Central Office.
Neurobiology-F | December 5, 2018 | * VA Central Office.
Cardiovascular Studies-B | December 6, 2018 | 20 F Conference Center.
Epidemiology | December 6, 2018 | Phoenix Park Hotel.
Gastroenterology | December 6, 2018 | 20 F Conference Center.
Neurobiology-A | December 7, 2018 | 20 F Conference Center.
Neurobiology-D | December 7, 2018 | 20 F Conference Center.
Gulf War Research | December 7, 2018 | Phoenix Park Hotel.
Special Panel for Sheep Review | December 11, 2018 | * VA Central Office.
Eligibility | January 18, 2018 | 20 F Conference Center.
Special Emphasis Panel on Clinical Studies | January 31, 2018 | * VA Central Office.
The addresses of the meeting sites are:
20 F Conference Center, 20 F Street NW, Washington, DC.
Phoenix Park Hotel, 520 North Capitol Street NW, Washington, DC.
VA Central Office, 1100 First Street NE, Suite 600, Washington, DC.
* Teleconference.

The purpose of the subcommittees is to provide advice on the scientific quality, budget, safety and mission relevance of investigator-initiated research proposals submitted for VA merit review evaluation. Proposals submitted for review include various medical specialties within the general areas of biomedical, behavioral and clinical science research.

These subcommittee meetings will be closed to the public for the review, discussion, and evaluation of initial and renewal research proposals, which involve reference to staff and consultant critiques of research proposals. Discussions will deal with scientific merit of each proposal and qualifications of personnel conducting the studies, the disclosure of which would constitute a clearly unwarranted invasion of personal privacy. Additionally, premature disclosure of research information could significantly obstruct implementation of proposed agency action regarding the research proposals. As provided by subsection 10(d) of Public Law 92-463, as amended by Public Law 94-409, closing the subcommittee meetings is in accordance with Title 5 U.S.C. 552b(c)(6) and (9)(B).

Those who would like to obtain a copy of the minutes from the closed subcommittee meetings and rosters of the subcommittee members should contact Holly Krull, Ph.D., Manager, Merit Review Program (10P9B), Department of Veterans Affairs, 810 Vermont Avenue NW, Washington, DC 20420, at (202) 632-8522 or email at holly.krull@va.gov.

Dated: December 20, 2018.
LaTonya L. Small,
Federal Advisory Committee Management Officer.

[FR Doc. 2018-28060 Filed 12-26-18; 8:45 am]

BILLING CODE P